DEPARTMENT OF TRANSPORTATION

Federal Transit Administration

Transfer of Federally Assisted Land or Facility

AGENCY: Federal Transit Administration, DOT.

ACTION: Notice of Intent to transfer Federally Assisted Land or Facility.

SUMMARY: Section 5334(g) of the Federal Transit Laws, as codified, 49 U.S.C. 5301, et seq., permits the Administrator of the Federal Transit Administration (FTA) to authority a recipient of FTA funds to transfer land or a facility to a public body for any public purpose with no further obligation to the Federal government, if, among other things, no Federal agency is interested in acquiring the asset for Federal use. Accordingly, FTA is issuing this notice to advise Federal agencies that the City of Montgomery, Alabama intends to transfer the Federal interest in approximately 0.35 acres of land and improvements thereon at 335 Coosa Street, Montgomery, Alabama. The City of Montgomery intends to repair and modify the silo complex for use as a satellite police station.

DATES: Any Federal agency interested in acquiring the asset must notify the FTA Region 4 Office of its interest by May 6, 2004.

ADDRESSES: Interested parties should notify the Regional office by writing to Hiram J. Walker, Regional Administrator, Federal Transit Administration, 61 Forsyth Street, Suite 17T50, Atlanta, Georgia 30303.

FOR FURTHER INFORMATION CONTACT: Tom McCormick, FTA Region 4 Director of Operations and Program Management at 404-562-3522 or FTA Headquarters Office of Program Management at 202-366-6106.

SUPPLEMENTARY INFORMATION: Background: 49 U.S.C. 5334(g) provides guidance on the transfer of capital assts. Specifically, if a recipient of FTA assistance decides an asset acquired under this chapter at least in part with that assistance is no longer needed for the purpose for which it was acquired, the Secretary of Transportation may authorize the recipient to transfer the asset to a local government authority to be used for a public purpose with no further obligation to the Government.

49 U.S.C. 5334(g)(1) Determinations

The Secretary may authorize a transfer for a public purpose other than mass transportation only if the Secretary decides:

(A) The asset will remain in public use for at least 5 years after the date the asset should be used;

(B) there is no purpose eligible for assistance under this chapter for which the asset should be used;

(C) the overall benefit of allowing the transfer is greater than the interest of the government in liquidation and return of the financial interest of the government in the asset, after considering fair market value and other factors, and

(D) through an appropriate screening or survey process, that there is no interest in acquiring the asset for government use if the asset is a facility or land.

Federal Interest in Acquiring Land or Facility

This document implements the requirements of 49 U.S.C. 5334(g)(1)(D) of the Federal Transit Laws. Accordingly, FTA hereby provides notice of the availability of the assets further described below. Any Federal agency interested in acquiring the asset should promptly notify the FTA. If no Federal agency is interested in acquiring the asset, FTA will make certain that the other requirements specified in 49 U.S.C. 5334(g)(1)(a) through (c) are met before permitting the asset to be transferred.

Additional Description of Land or Facility

The property is located at 335 Coosa Street, Montgomery, Alabama and contains approximately 0.35 acres of land and a building. The property was originally built as a silo complex at least 50 years ago. In 1991, the complex was renovated to serve as an Amtrak station. Since Amtrak ceased operations along the railroad in 1994, the building has only seen occasional use as office space.

The lot is rectangular measuring 215 feet by 68.5 feet containing 15,050 square feet, or approximately 0.35 acres, and is zoned M1, heavy industry. The lot is between the CSX railroad tracks that carry over 50 trains per day and the Alabama River. Vehicular access to the lot is restricted to a road that crosses the CSX railroad. The lost has also been improved with walkways, driveways, fencing, and a playground.

The building is configured as eight connected cylindrical towers of reinforced concrete approximately 100 feet in height. The building has a metal roof that leaks substantially and needs extensive repair. Water has damaged the ceilings and many ceiling tiles need to be replaced. Door and window openings are sawed into the reinforced concrete silo structure. The first floor of the building is heated and air-conditioned. On the first floor there is an office area including men's and women's bathrooms containing approximately 1,952 square feet. The area above the first floor is unimproved empty space.

Issued on: March 31, 2004.
Hiram J. Walker,
Regional Administrator.

[FR Doc. 04-7677 Filed 4-5-04; 8:45 am]

BILLING CODE 4910-57-M